DEPARTMENT OF COMMERCE

International Trade Administration

[A-533-908]

Barium Chloride From India: Final Negative Determination of Sales at Less Than Fair Value

AGENCY: Enforcement and Compliance, International Trade Administration, Department of Commerce.

SUMMARY: The U.S. Department of Commerce (Commerce) determines that barium chloride from India is not being, or is not likely to be, sold in the United States at less than fair value (LTFV). The period of investigation (POI) is January 1, 2021, through December 31, 2021.

DATES: Applicable January 6, 2023.

FOR FURTHER INFORMATION CONTACT: Fred Baker, AD/CVD Operations, Office VI, Enforcement and Compliance, International Trade Administration, U.S. Department of Commerce, 1401 Constitution Avenue NW, Washington, DC 20230; telephone: (202) 482-2924.

SUPPLEMENTARY INFORMATION:

Background

On August 17, 2022, Commerce published the preliminary determination in the LTFV investigation of barium chloride from India, in which it also postponed the final determination until December 30, 2022.¹ Commerce invited interested parties to comment on the Preliminary Determination. For a complete description of the events that followed the Preliminary Determination, see the Issues and Decision Memorandum.²

¹ See Barium Chloride from India: Preliminary Negative Determination of Sales at Less Than Fair Value, Postponement of Final Determination, 87 FR 50602 (August 17, 2022) (Preliminary Determination), and accompanying Preliminary Decision Memorandum.

² See Memorandum, “Decision Memorandum for the Final Negative Determination in the Less-Than-Fair-Value Investigation of Barium Chloride from India,” dated concurrently with, and hereby adopted by, this notice (Issues and Decision Memorandum).

Scope Comments

On July 6, 2022, we issued the Preliminary Scope Decision Memorandum.³ The scope case briefs were due on July 20, 2022.⁴ No parties filed scope case briefs addressing the Preliminary Scope Decision Memorandum. Therefore, Commerce has not made any changes to the scope of this investigation since the Preliminary Determination.

³ See Memorandum, “Antidumping and Countervailing Duty Investigations of Barium Chloride from India: Preliminary Scope Decision Memorandum,” dated July 6, 2022 (Preliminary Scope Decision Memorandum).

⁴ Id. at 1.

Scope of the Investigation

The product covered by this investigation is barium chloride from India. For a complete description of the scope of this investigation, see Appendix I.

Verification

Commerce was unable to conduct on-site verification of the information relied on in making its final determination in this investigation. However, in September and October 2022, we took additional steps in lieu of on-site verifications to verify the information relied on in making this final determination, in accordance with section 782(i) of the Tariff Act of 1930, as amended (the Act). Specifically, Commerce conducted virtual verifications of the home market sales, U.S. sales, and cost of production responses submitted by Chaitanya/CBI.⁵

⁵ Commerce has determined that Chaitanya Chemicals (Chaitanya) and Chaitanya Barium India Pvt Ltd. (CBI) should be treated as a single entity (collectively, Chaitanya/CBI), in accordance with section 771(33)(A) and (F) of the Act and 19 CFR 351.401(f). See Issues and Decision Memorandum at 4.

Analysis of Comments Received

All issues raised in the case and rebuttal briefs by parties in this investigation are discussed in the Issues and Decision Memorandum. A list of the issues raised in the Issues and Decision Memorandum is attached to this notice at Appendix II. The Issues and Decision Memorandum is a public document and is available electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Determination

Based on our analysis of the comments received from interested parties, we made certain changes to the margin calculations for Chaitanya/CBI. For a discussion of these changes, see the Issues and Decision Memorandum.

Final Determination

Commerce determines that the final estimated weighted-average dumping margin exists for the POI:

Exporter/producer | Estimated weighted-average dumping margin (percent)
Chaitanya Chemicals/Chaitanya Barium India Pvt Ltd | 0.00

Commerce has not calculated an estimated weighted-average dumping margin for all other producers and exporters pursuant to sections 735(c)(1)(B) and (c)(5) of the Act, because it has not made a final affirmative determination of sales at LTFV.

Disclosure

Commerce intends to disclose its calculations and analysis performed to interested parties in this final determination within five days of the date of publication of this notice, in accordance with 19 CFR 351.224(b).

Suspension of Liquidation

In the Preliminary Determination, the estimated weighted-average dumping margin for Chaitanya/CBI was zero percent and, therefore, we did not suspend liquidation of entries of barium chloride from India.⁶ Because Commerce has made a final negative determination of sales at LTFV with regard to the subject merchandise, Commerce will not direct U.S. Customs and Border Protection to suspend liquidation or to require a cash deposit of estimated antidumping duties for entries of barium chloride from India.

⁶ See Preliminary Determination, 87 FR at 50603.

U.S. International Trade Commission Notification

In accordance with section 735(d) of the Act, Commerce will notify the U.S. International Trade Commission of its final negative determination of sales at LTFV. As our final determination is negative, this proceeding is terminated in accordance with section 735(c)(2) of the Act.

Administrative Protective Order

This notice will serve as a reminder to the parties subject to an administrative protective order (APO) of their responsibility concerning the disposition of proprietary information disclosed under APO in accordance with 19 CFR 351.305(a)(3). Timely written notification of return or destruction of APO materials or conversion to judicial protective order is hereby requested. Failure to comply with the regulations and terms of an APO is a sanctionable violation.

Notification to Interested Parties

This determination is issued and published in accordance with sections 735(d) and 777(i)(1) of the Act, and 19 CFR 351.210(c).

Dated: December 30, 2022.
Lisa W. Wang,
Assistant Secretary for Enforcement and Compliance.

Appendix I

Scope of the Investigation

The merchandise covered by this investigation is barium chloride, a chemical compound having the formulas BaCl2 or BaCl2-2H2O, currently classifiable under subheading 2827.39.4500 of the Harmonized Tariff Schedule of the United States (HTSUS). Although the HTSUS subheading is provided for convenience and customs purposes, the written description of the scope of this investigation is dispositive.

Appendix II

List of Topics Discussed in the Issues and Decision Memorandum

I. Summary

II. Background

III. Period of Investigation

IV. Scope of the Investigation

V. Changes Since the Preliminary Determination

VI. Affiliations

VII. Discussion of the Issues

Comment 1: Whether a Particular Market Situation (PMS) Concerning Barytes Existed in India During the POI

Comment 2: Application of Total Adverse Facts Available (AFA) Because of Chaitanya's Failure to Retain Production Records

Comment 3: Whether Chaitanya/CBI's Exclusion of Sales to a Particular Home Market Customer from Its Home Market Sales Listing Is Appropriate

Comment 4: Whether the Application of Total AFA Because of Incorrect Reporting of Control Number (CONNUM) for a Home Market Sale is Warranted

Comment 5: Incorrect Reporting of Packing Costs

Comment 6: Incorrect Reporting of Interest Rate for U.S. Imputed Credit Expenses and Inventory Carrying Costs

Comment 7: Whether Commerce Should Disallow Chaitanya's By-Product Offset

Comment 8: Inclusion of Goods and Services Tax (GST) in the Home Market Gross Unit Price

Comment 9: Whether the Average-to-Average Margin Calculation Methodology is Appropriate

Comment 10: Whether Commerce Should Revise Chaitanya's General and Administrative (G&A) Expense Rate to Include Certain Expenses Improperly Excluded

Comment 11: Whether Commerce Should Make Various Adjustments to Chaitanya's Reported Cost Data as Noted in the Cost Verification Report

Comment 12: Whether Commerce Should Revise Chaitanya's Financial Expense Ratio to Disallow an Interest Income Offset

Comment 13: Comments on the Verification Report

VIII. Recommendation

[FR Doc. 2023-00085 Filed 1-5-23; 8:45 am]

BILLING CODE 3510-DS-P